DEPARTMENT OF THE TREASURY

United States Mint

Re-pricing of Several Silver Coin Products

AGENCY: United States Mint, Department of the Treasury.

ACTION: Notice.

SUMMARY: Because of the recent decrease in the market price of silver, the United States Mint is lowering the price of several numismatic products that contain silver coins, as follows:

2013 American Eagle One Ounce Silver Proof Coin—$57.95.

2013 American Eagle One Ounce Silver Uncirculated Coin—$48.95.

2012 America the Beautiful Five Ounce Silver Uncirculated Coin™—Chaco Culture National Historical Park, New Mexico—$179.95.

2012 United States Mint Annual Uncirculated Dollar Coin Set—$49.95.

FOR FURTHER INFORMATION CONTACT: Marc Landry, Acting Associate Director for Sales and Marketing; United States Mint; 801 9th Street NW., Washington, DC 20220; or call 202-354-7500.

Authority: 31 U.S.C. 5111, 5112 & 9701.

Dated: April 26, 2013.
Richard A. Peterson,
Acting Director, United States Mint.

[FR Doc. 2013-10390 Filed 5-1-13; 8:45 am]

BILLING CODE P